DEPARTMENT OF AGRICULTURE

Animal and Plant Health Inspection Service

[Docket No. APHIS-2006-0152]

Supplemental Environmental Impact Statement for Importation of Solid Wood Packing Material

AGENCY: Animal and Plant Health Inspection Service, USDA.

ACTION: Notice of intent.

SUMMARY: We are advising the public that a supplemental environmental impact statement will be prepared by the Animal and Plant Health Inspection Service to analyze methyl bromide usage associated with regulatory requirements for importing solid wood packing material into the United States. That document will serve as a supplement to the Importation of Solid Wood Packing Material Final Environmental Impact Statement, August 2003.

FOR FURTHER INFORMATION CONTACT: Mr. David A. Bergsten, APHIS Interagency NEPA Contact, Environmental Services, PPD, APHIS, 4700 River Road, Unit 149, Riverdale, MD 20737-1238; (301) 734-6103.

SUPPLEMENTARY INFORMATION: The Animal and Plant Health Inspection Service (APHIS) intends to prepare a supplemental environmental impact statement (SEIS) for the Importation of Solid Wood Packing Material Final Environmental Impact Statement, August 2003 (FEIS). The purpose of the SEIS is to reevaluate and refine the estimates of methyl bromide usage associated with the alternatives considered in the FEIS.

APHIS published in the Federal Register on September 16, 2004 (69 FR 55719-55733, Docket No. 02-032-3), a final rule amending the regulations for the importation of unmanufactured wood articles to adopt an international standard entitled “Guidelines for Regulating Wood Packaging Material in International Trade.” The FEIS was prepared with regard to that final rule in compliance with the National Environmental Policy Act of 1969 (NEPA), as amended (42 U.S.C. 4321 et seq.), and its implementing regulations.

APHIS will base the SEIS on recently obtained, reliable data regarding how various countries have complied with the final rule and with the International Plant Protection Convention Guidelines (IPPC Guidelines) on which the final rule was based. These data include reports from different countries on whether cargo is routinely fumigated along with wood packaging material (WPM), which would result in more methyl bromide usage, or whether WPM is fumigated separately from cargo, which would result in less methyl bromide usage. We also have new data on the extent to which various countries have chosen to comply with the IPPC Guidelines by heat treating WPM rather than fumigating it.

The SEIS will be prepared in accordance with: (1) NEPA, (2) regulations of the Council on Environmental Quality for implementing the procedural provisions of NEPA (40 CFR parts 1500-1508), (3) USDA regulations implementing NEPA (7 CFR part 1), and (4) APHIS' NEPA Implementing Procedures (7 CFR part 372).

When APHIS has completed a draft SEIS, a notice announcing its availability and an invitation to comment on it will be published in the Federal Register.

Done in Washington, DC, this 18th day of October 2006.
Kevin Shea,
Acting Administrator, Animal and Plant Health Inspection Service.

[FR Doc. E6-17773 Filed 10-23-06; 8:45 am]

BILLING CODE 3410-34-P